FEDERAL COMMUNICATIONS COMMISSION

47 CFR Part 73

[DA 03-744, MM Docket No. 01-44, RM-10022]

Digital Television Broadcast Service; Derby, KS

AGENCY: Federal Communications Commission.

ACTION: Final rule.

SUMMARY: The Commission, at the request of Pappas Telecasting of America, allots DTV channel 46 to Derby, Kansas. See 66 FR 12753, February 28, 2001. DTV channel 46 can be allotted to Derby, Kansas, in compliance with the principle community coverage requirements of Section 73.625(a) at reference coordinates 37-54-12 N. and 97-37-06 W. with a power of 1000, HAAT of 246 meters. With this action, this proceeding is terminated.

DATES: Effective May 5, 2003.

FOR FURTHER INFORMATION CONTACT: Pam Blumenthal, Media Bureau, (202) 418-1600.

SUPPLEMENTARY INFORMATION: This is a synopsis of the Commission's Report and Order, MM Docket No. 01-44, adopted March 11, 2003, and released March 20, 2003. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC, 20554, telephone (202) 863-2893, facsimile (202) 863-2898, or via e-mail qualexint@aol.com.

List of Subjects in 47 CFR Part 73

Digital television broadcasting, Television.

Part 73 of Title 47 of the Code of Federal Regulations is amended as follows:

PART 73—[AMENDED]

1. The authority citation for Part 73 continues to read as follows:

Authority: 47 U.S.C. 154, 303, 334 and 336.

§ 73.622 [Amended]

2. Section 73.622(b), the Table of Digital Television Allotments under Kansas, is amended by adding Derby, DTV channel 46.

Federal Communications Commission.
Barbara A. Kreisman,
Chief, Video Division, Media Bureau.

[FR Doc. 03-6876 Filed 3-21-03; 8:45 am]

BILLING CODE 6712-01-P